DEPARTMENT OF COMMERCE

Foreign-Trade Zones Board

[Docket 46-2008]

Foreign-Trade Zone 38 - Spartanburg County, SC, Application for Subzone Status, Cornell Dubilier Marketing, Inc. (Electrolytic Capacitors)

An application has been submitted to the Foreign-Trade Zones Board (the Board) by the South Carolina State Ports Authority, grantee of FTZ 38, requesting special-purpose subzone status for the aluminum electrolytic capacitor manufacturing plant of Cornell Dubilier Marketing, Inc. (CDM), located in Liberty, South Carolina. The application was submitted pursuant to the provisions of the Foreign-Trade Zones Act, as amended (19 U.S.C. 81a-81u), and the regulations of the Board (15 CFR part 400). It was formally filed on August 18, 2008.

The CDM facility (308 employees/34 acres/152,520 sq.ft.) is located at 140 Technology Place in Liberty (Pickens County), South Carolina. The plant is used to produce aluminum electrolytic capacitors (up to 6,100 units annually) for export and the domestic market. The manufacturing process involves slitting, formation, winding, and electrolyte impregnation of etched aluminum foil using domestically-sourced material inputs and foreign-origin etched aluminum foil (HTSUS 7607.19, 5.3%; aluminum foil represents about 37% of finished capacitor value).

FTZ procedures would exempt CDM from customs duty payments on the foreign etched aluminum foil used in export production. On domestic shipments, the company could be able to elect the duty rate that applies to finished aluminum electrolytic capacitors (duty free) for the foreign etched aluminum foil. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the address below. The closing period for their receipt is October 24, 2008. Rebuttal comments in response to material submitted during the foregoing period may be submitted during the subsequent 15-day period to November 10, 2008.

A copy of the application and accompanying exhibits will be available for public inspection at each of the following locations: Office of the Port Director, U.S. Customs and Border Protection, 150-A West Phillips Road, Greer, SC 29650; and, Office of the Executive Secretary, Foreign-Trade Zones Board, Room 2111, U.S. Department of Commerce, 1401 Constitution Avenue, NW, Washington, DC 20230-0002. For further information, contact Pierre Duy at pierre_duy@ita.doc.gov, or (202) 482-1378.

Dated: August 19, 2008.
Andrew McGilvray,
Executive Secretary.

[FR Doc. E8-19643 Filed 8-22-08; 8:45 am]

BILLING CODE 3510-DS-S